DEPARTMENT OF LABOR

Office of Federal Contract Compliance Programs

Goya de Puerto Rico, Inc., Debarment

AGENCY: Office of Federal Contract Compliance Programs, Labor.

ACTION: Notice of Debarment: Goya de Puerto Rico, Inc., Bayamon, P.R. 00959.

SUMMARY: This notice advises of the debarment of Goya de Puerto Rico, Inc., as an eligible bidder on Government contracts or extensions or modifications of existing contracts. The debarment is effective immediately.

EFFECTIVE DATE: August 14, 2002.

FOR FURTHER INFORMATION CONTACT: Charles E. James, Sr., Deputy Assistant Secretary for Federal Contract Compliance, U.S. Department of Labor, 200 Constitution Ave., NW., Room C-3325, Washington, DC 20210 (202-693-1062).

SUPPLEMENTARY INFORMATION: This notice pertains to Goya de Puerto Rico, Inc., Road No. 28, Corner Road No. 5, Luchetti Industrial Park, Bayamon, P.R. 00959. (It is not applicable to Goya Foods, Inc., a separate entity.) On March 21, 2002, the U.S. Department of Labor Administrative Review Board (“ARB”) issued a Final Decision and Order, pursuant to Executive Order 11246, the Vietnam Era Veterans' Readjustment Assistance Act of 1974, Section 503 of the Rehabilitation Act of 1973 and their implementing regulations (41 CFR Parts 60-1 to 60-50, 41 CFR Part 60-250, and 41 CFR Part 60-741), OFCCP v. Goya de Puerto Rico, Inc., No. 99-104. The Final Decision provides that Goya de Puerto Rico, Inc., its officers, agents, employees, successors, divisions, subsidiaries, and all persons in active concert or participation with them, are permanently enjoined from failing or refusing to comply with the requirements of the Executive Order, Section 503, and VEVRAA. The decision further ordered that Goya de Puerto Rico, Inc. be debarred from having or entering into government contracts, or from extensions or modifications of existing contracts, until the later of the expiration of six months or the fulfillment of the following three conditions: (1) That Goya de Puerto Rico, Inc. submit a complete affirmative action plan to OFCCP; (2) that OFCCP has the opportunity to complete an on-site investigation and to conduct a full compliance review to confirm the accuracy of the affirmative action program and to verify compliance with all regulations; and (3) that the Secretary of Labor, through OFCCP, declares Goya de Puerto Rico Inc.'s affirmative action plan acceptable. Finally, the ARB ordered that Goya de Puerto Rico's existing government contracts, subcontracts and blanket purchase agreements, and all of the contracts, subcontracts, and blanket purchase agreements of Goya de Puerto Rico Inc.'s officers, agents, employees, successors, divisions, subsidiaries, and all persons in active concert or participation with it, be canceled and terminated. Pursuant to Section 209(a)(5) of Executive Order 11246, as amended, the process of consultation with Federal contracting agencies has been initiated, and existing contracts, subcontracts and blanket purchase agreements may be terminated thereafter.

Signed August 8, 2002, Washington, DC.
Harold M. Busch,
Acting Deputy Director, Office of Federal Contract Compliance Programs.

[FR Doc. 02-20607 Filed 8-13-02; 8:45 am]

BILLING CODE 4510-CM-P